DEPARTMENT OF COMMERCE

International Trade Administration

[A-570-890]

Wooden Bedroom Furniture, From the People's Republic of China: Partial Rescission of Antidumping Duty Administrative Review

AGENCY: Enforcement and Compliance, International Trade Administration, Department of Commerce.

DATES: Effective September 8, 2016.

FOR FURTHER INFORMATION CONTACT: Patrick O'Connor, AD/CVD Operations, Office IV, Enforcement and Compliance, International Trade Administration, U.S. Department of Commerce, 14th Street and Constitution Avenue NW., Washington, DC 20230, telephone: (202) 482-0989.

SUPPLEMENTARY INFORMATION:

Background

On January 4, 2005, the Department of Commerce (Department) published in the Federal Register the antidumping duty order on wooden bedroom furniture from the People's Republic of China (PRC).¹ On January 4, 2016, the Department published a notice of opportunity to request an administrative review of the Order.² The Department received multiple timely requests for an administrative review of the Order. On March 3, 2016, in accordance with section 751(a) of Tariff Act of 1930, as amended (the Act), the Department published in the Federal Register a notice of the initiation of an administrative review of the Order.³ The administrative review was initiated with respect to 141 companies or groups of companies, and covers the period from January 1, 2015, through December 31, 2015. The requesting parties have subsequently timely withdrawn all review requests for 123 of the 141 companies or groups of companies for which the Department initiated a review, as discussed below.

¹ See Notice of Amended Final Determination of Sales at Less Than Fair Value and Antidumping Duty Order: Wooden Bedroom Furniture From the People's Republic of China, 70 FR 329 (January 4, 2005) (“Order”).

² See Antidumping or Countervailing Duty Order, Finding, or Suspended Investigation; Opportunity To Request Administrative Review, 81 FR 67 (January 4, 2016).

³ See Initiation of Antidumping and Countervailing Duty Administrative Reviews, 81 FR 11179 (March 3, 2016) (“Initiation Notice”).

Rescission of Review, in Part

Pursuant to 19 CFR 351.213(d)(1), the Department will rescind an administrative review, in whole or in part, if a party that requested the review withdraws its request within 90 days of the date of publication of the notice of initiation of the requested review. All requesting parties withdrew their respective requests for an administrative review of the companies or groups of companies listed in the Appendix to this notice within 90 days of the date of publication of the Initiation Notice. Accordingly, the Department is rescinding this review, in part, with respect to these companies, in accordance with our practice ⁴ and 19 CFR 351.213(d)(1).⁵ The administrative review will continue with respect to all other firms for which a review was requested and initiated.

⁴ See, e.g., Certain Lined Paper Products from India: Notice of Partial Rescission of Countervailing Duty Administrative Review; 2014, 81 FR 7082 (February 10, 2016).

⁵ See Appendix. As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (“Change in Practice in NME Reviews”). The PRC-wide entity is not subject to this administrative review because no interested party requested a review of the entity. See Initiation Notice.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the Secretary's assumption that the reimbursement of antidumping duties occurred and the subsequent assessment of double antidumping duties.

Notification Regarding Administrative Protective Orders

This notice also serves as a reminder to parties subject to administrative protective orders (“APO”) of their responsibility concerning the return or destruction of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with section 751(a)(1) of the Act and 19 CFR 351.213(d)(4).

Dated: August 31, 2016.
Christian Marsh,
Deputy Assistant Secretary for Antidumping and Countervailing Duty Operations.

Appendix

• Ace Furniture & Crafts Ltd.

• Always Loyal International

• Art Heritage International, Ltd.

• Artwork Metal & Plastic Co., Ltd.

• Baigou Crafts Factory of Fengkai.

• Beautter Furniture Mfg. Co.

• Best Beauty Furniture Co. Ltd.

• Billionworth Enterprises Ltd.

• Brittomart Inc.

• C.F. Kent Co., Inc.

• C.F. Kent Hospitality, Inc.

• Century Distribution Systems, Inc.

• Changshu HTC Import & Export Co., Ltd.

• Cheng Meng Decoration & Furniture (Suzhou) Co., Ltd.

• Cheng Meng Furniture (PTE) Ltd.

• Chuan Fa Furniture Factory

• Classic Furniture Global Co., Ltd.

• Dalian Guangming Furniture Co., Ltd.

• Dalian Huafeng Furniture Co., Ltd.

• Dalian Huafeng Furniture Group Co., Ltd.

• Der Cheng Furniture Co., Ltd.

• Der Cheng Wooden Works Of Factory

• Dongguan Bon Ten Furniture Co., Ltd.

• Dongguan Chengcheng Furniture Co., Ltd.

• Dongguan Dong He Furniture Co., Ltd.

• Dongguan Fortune Furniture Ltd.

• Dongguan Grand Style Furniture Co., Ltd.

• Dongguan Jinfeng Creative Furniture

• Dongguan Kingstone Furniture Co., Ltd., Kingstone Furniture Co., Ltd.

• Dongguan Lung Dong Furniture Co., Ltd.

• Dongguan Mingsheng Furniture Co., Ltd.

• Dongguan Mu Si Furniture Co., Ltd.

• Dongguan Nova Furniture Co., Ltd.

• Dongguan Sunshine Furniture Co., Ltd.

• Dongguan Yujia Furniture Co., Ltd.

• Dongguan Zhisheng Furniture Co., Ltd.

• Dongying Huanghekou Furniture Industry Co., Ltd.

• Dorbest Ltd., Rui Feng Woodwork Co., Ltd. Aka Rui Feng Woodwork (Dongguan) Co., Ltd., Rui Feng Lumber Development Co., Ltd. Aka Rui Feng Lumber Development (Shenzhen) Co., Ltd.

• Dream Rooms Furniture (Shanghai) Co., Ltd.

• Evergo Furniture Manufacturing Co., Ltd.

• Fine Furniture (Shanghai) Ltd.

• Fleetwood Fine Furniture LP

• Fortune Furniture Ltd.

• Fortune Glory Industrial Ltd. (H.K. Ltd.), Tradewinds Furniture Ltd.

• Foshan Bailan Imp. & Exp. Ltd.

• Foshan Shunde Longjiang Zhishang Furniture Factory.

• Fuijian Lianfu Forestry Co., Ltd. aka Fujian Wonder Pacific Inc.

• Fuzhou Huan Mei Furniture Co., Ltd.

• Guangdong New Four Seas Furniture Manufacturing Ltd.

• Guangzhou Lucky Furniture Co., Ltd.

• Guangzhou Maria Yee Furnishings Ltd., Pyla HK Ltd., Maria Yee, Inc.

• Hainan Jong Bao Lumber Co., Ltd.

• Haining Kareno Furniture Co., Ltd.

• Hang Hai Woodcraft's Art Factory.

• Hangzhou Jason Outdoor Furniture Co., Ltd.

• Hong Kong Da Zhi Furniture Co., Ltd.

• Hualing Furniture (China) Co., Ltd., Tony House Manufacture (China) Co., Ltd., Buysell Investments Ltd., Tony House Industries Co., Ltd.

• Hung Fai Wood Products Factory Ltd.

• Jasonwood Industrial Co., Ltd. S.A.

• Jiangmen Kinwai Furniture Decoration Co., Ltd.

• Jiangmen Kinwai International Furniture Co., Ltd.

• Jiangsu Dare Furniture Co., Ltd.

• Jiangsu Xiangsheng Bedtime Furniture Co., Ltd.

• Jiangsu Yuexing Furniture Group Co., Ltd.

• Jiashan Zhenxuan Furniture Co., Ltd.

• Jibbon Enterprise Co., Ltd.

• Jibson Industries Ltd.

• Jiedong Lehouse Furniture Co., Ltd.

• King's Way Furniture Industries Co., Ltd.

• Kingsyear Ltd.

• Kunshan Summit Furniture Co., Ltd.

• Liang Huang (Jiaxing) Enterprise Co., Ltd.

• Nantong Yangzi Furniture Co., Ltd.

• Nathan International Ltd., Nathan Rattan Factory.

• Orient International Holding Shanghai Foreign Trade Co., Ltd.

• Perfect Line Furniture Co., Ltd.

• Prime Best Factory.

• Prime Best International Co., Ltd.

• Prime Wood International Co., Ltd.

• Putian Jinggong Furniture Co., Ltd.

• Qingdao Beiyuan Industry Trading Co., Ltd.

• Qingdao Beiyuan Shengli Furniture Co., Ltd.

• Qingdao Liangmu Co., Ltd.

• Qingdao Shengchang Wooden Co., Ltd.

• Restonic (Dongguan) Furniture Ltd., Restonic Far East (Samoa) Ltd.

• Sen Yeong International Co., Ltd.

• Shanghai Maoji Imp And Exp Co., Ltd.

• Sheh Hau International Trading Ltd.

• Shenzhen Diamond Furniture Co., Ltd.

• Shenzhen Forest Furniture Co., Ltd.

• Shenzhen Jiafa High Grade Furniture Co., Ltd., Golden Lion International Trading Ltd.

• Shenzhen New Fudu Furniture Co., Ltd.

• Shenzhen Wonderful Furniture Co., Ltd.

• Shenzhen Xingli Furniture Co., Ltd.

• Shing Mark Enterprise Co., Ltd., Carven Industries Limited (BVI), Carven Industries Limited (HK), Dongguan Zhenxin Furniture Co., Ltd., Dongguan Yongpeng Furniture Co., Ltd.

• Songgang Jasonwood Furniture Factory.

• Starwood Industries Ltd.

• Strongson (HK) Co.

• Strongson Furniture (Shenzhen) Co., Ltd.

• Strongson Furniture Co., Ltd.

• Sunforce Furniture (Hui-Yang) Co., Ltd., Sun Fung Wooden Factory, Sun Fung Co., Shin Feng Furniture Co., Ltd., Stupendous International Co., Ltd.

• Super Art Furniture Co., Ltd.

• Superwood Co., Ltd., Lianjiang Zongyu Art Products Co., Ltd.

• Teamway Furniture (Dong Guan) Co., Ltd.

• Techniwood Industries Ltd., Ningbo Furniture Industries Ltd., Ningbo Hengrun Furniture Co., Ltd.

• Tube-Smith Enterprise (Haimen) Co., Ltd.

• Tube-Smith Enterprise (Zhangzhou) Co., Ltd.

• U-Rich Furniture (Zhangzhou) Co., Ltd., U-Rich Furniture Ltd.

• Weimei Furniture Co., Ltd.

• Wuxi Yushea Furniture Co., Ltd.

• Xiamen Yongquan Sci-Tech Development Co., Ltd.

• Xilinmen Group Co., Ltd.

• Yichun Guangming Furniture Co., Ltd.

• Yihua Timber Industry Co., Ltd., Guangdong Yihua Timber Industry Co., Ltd.

• Zhang Zhou Sanlong Wood Product Co., Ltd.

• Zhangjiagang Daye Hotel Furniture Co., Ltd.

• Zhangjiang Sunwin Arts & Crafts Co., Ltd.

• Zhangzhou Guohui Industrial & Trade Co., Ltd.

• Zhong Shan Fullwin Furniture Co., Ltd.

• Zhong Shun Wood Art Co.

• Zhongshan Fookyik Furniture Co., Ltd.

• Zhongshan Golden King Furniture Industrial Co., Ltd.

• Zhoushan For-Strong Wood Co., Ltd.

[FR Doc. 2016-21631 Filed 9-7-16; 8:45 am]

BILLING CODE 3510-DS-P